SECURITIES AND EXCHANGE COMMISSION

[File No. 1-00225]

Issuer Delisting; Notice of Application of Kimberly-Clark Corporation To Withdraw Its Common Stock, $1.25 Par Value, Per Share, From Listing and Registration on the Pacific Exchange, Inc.

June 14, 2005.

On May 25, 2005, Kimberly-Clark Corporation, a Delaware corporation (“Issuer”), filed an application with the Securities and Exchange Commission (“Commission”), pursuant to Section 12(d) of the Securities Exchange Act of 1934 (“Act”) ¹ and Rule 12d2-2(d) thereunder,² to withdraw its common stock, $1.25 par value (“Security”), from listing and registration on the Pacific Exchange, Inc. (“PCX”).

¹ 15 U.S.C. 78l(d).

² 17 CFR 240.12d2-2(d).

The Board of Directors (“the Board”) of the Issuer approved a resolution on April 28, 2005 to withdraw the Security from listing on PCX. The Board stated that the reason it decided to withdraw the Security from PCX is that the benefits of continued listing on PCX do not outweigh the incremental cost of the listing fees and administrative burden associated with listing on the exchange. In addition, the Board stated that it is desirable for the Issuer to remove its Security from PCX listing because of the modest volume of trading in the Security on PCX does not justify the expense and administrative time associated with remaining listed on PCX. The Issuer stated that the Security is currently traded on the New York Stock Exchange, Inc. (“NYSE”), the Issuer's principal listing exchange, and on the Chicago Stock Exchange, Inc. (“CHX”).

The Issuer stated in its application that it has complied with applicable rules of PCX Rule 5.4(b) by providing PCX with the required documents governing the withdrawal of securities from listing and registration on PCX. The Issuer's application relates solely to the withdrawal of the Securities from listing on PCX and shall not affect its continued listing on CHX and NYSE or its obligation to be registered under Section 12(b) of the Act.³

³ 15 U.S.C. 781(b).

Any interested person may, on or before July 11, 2005 comment on the facts bearing upon whether the application has been made in accordance with the rules of PCX, and what terms, if any, should be imposed by the Commission for the protection of investors. All comment letters may be submitted by either of the following methods:

Electronic Comments

• Send an e-mail to rule-comments@sec.gov. Please include the File Number 1-00225 or;

Paper Comments

• Send paper comments in triplicate to Jonathan G. Katz, Secretary, Securities and Exchange Commission, 100 F Street, NE., Washington, DC 20549-9303.

All submissions should refer to File Number 1-00225. This file number should be included on the subject line if e-mail is used. To help us process and review your comments more efficiently, please use only one method. The Commission will post all comments on the Commission's Internet Web site (http://www.sec.gov/rules/delist.shtml). Comments are also available for public inspection and copying in the Commission's Public Reference Room. All comments received will be posted without change; we do not edit personal identifying information from submissions. You should submit only information that you wish to make available publicly.

The Commission, based on the information submitted to it, will issue an order granting the application after the date mentioned above, unless the Commission determines to order a hearing on the matter.

For the Commission, by the Division of Market Regulation, pursuant to delegated authority.⁴
⁴ 17 CFR 200.30-3(a)(1).
Jonathan G. Katz,
Secretary.

[FR Doc. E5-3185 Filed 6-17-05; 8:45 am]

BILLING CODE 8010-01-P